DEPARTMENT OF COMMERCE

Foreign-Trade Zones Board

[B-009-2014]

Foreign-Trade Zone 104—Savannah, Georgia, Application for Reorganization (Expansion of Service Area), Under the Alternative Site Framework

An application has been submitted to the Foreign-Trade Zones (FTZ) Board (the Board) by the World Trade Center Savannah, LLC, grantee of FTZ 104, requesting authority to expand its service area under the alternative site framework (ASF) adopted by the Board (15 CFR 400.2(c)). The ASF is an option for grantees for the establishment or reorganization of general-purpose zones and can permit significantly greater flexibility in the designation of new “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally docketed on February 4, 2014.

FTZ 104 was approved by the Board on April 18, 1984 (Board Order 256, 49 FR 17789, 04/25/84) and reorganized under the ASF on January 12, 2011 (Board Order 1736, 76 FR 4865, 1/27/11, and the service area was expanded on June 10, 2013 (Board Order 1904, 78 FR 36165, 6/17/13). The zone currently has a service area that includes the counties of Bulloch, Bryan, Chatham, Effingham, Evans, Liberty, Long, Screven, Columbia and Richmond.

The applicant is requesting authority to expand the service area of the zone to include Burke, Candler, Emanuel, Jefferson, Jenkins, Johnson, Laurens, Montgomery, Tattnall, Telfair, Toombs, Treutlen, Washington and Wheeler Counties, as described in the application. If approved, the grantee would be able to serve sites throughout the expanded service area based on companies' needs for FTZ designation. The application indicates that the proposed expanded service area is adjacent to the Savannah Customs and Border Protection port of entry.

In accordance with the Board's regulations, Kathleen Boyce of the FTZ Staff is designated examiner to evaluate and analyze the facts and information presented in the application and case record and to report findings and recommendations to the Board.

Public comment is invited from interested parties. Submissions shall be addressed to the Board's Executive Secretary at the address below. The closing period for their receipt is April 11, 2014. Rebuttal comments in response to material submitted during the foregoing period may be submitted during the subsequent 15-day period to April 28, 2014.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: February 4, 2014.
Andrew McGilvray,
Executive Secretary.

[FR Doc. 2014-02835 Filed 2-7-14; 8:45 am]

BILLING CODE 3510-DS-P